DEPARTMENT OF LABOR

Employment and Training Administration

[TA-W-65,646]

Honeywell International, Olathe, KS; Notice of Termination of Investigation

Pursuant to Section 221 of the Trade Act of 1974, as amended, an investigation was initiated on March 20, 2009 in response to a worker petition filed by a company official on behalf of workers of Honeywell International, Olathe, Kansas.

The petitioner has requested that the petition be withdrawn. Consequently, the investigation has been terminated.

Signed at Washington, DC this 29th day of April 2009.
Elliott S. Kushner,
Certifying Officer, Division of Trade Adjustment Assistance.

[FR Doc. E9-11861 Filed 5-20-09; 8:45 am]

BILLING CODE 4510-FN-P